SURFACE TRANSPORTATION BOARD

[Docket No. FD 36479]

Palouse River & Coulee City Railroad, L.L.C.—Lease Exemption With Interchange Commitment—Union Pacific Railroad Company

Palouse River & Coulee City Railroad, L.L.C. (PRCC), a Class III rail carrier, has filed a verified notice of exemption under 49 CFR 1150.41 to renew its lease of 11.5 miles of rail line known as the Condon Subdivision owned by Union Pacific Railroad Company (UP) between milepost 0.0 at Arlington, Or., and milepost 11.5 at Gilliam, Or. (the Line).

According to the verified notice, PRCC has leased and operated the Line since 2003, see Palouse River & Coulee City R.R.—Lease & Operation Exemption—Union Pac. R.R., FD 34385 (STB served Aug. 21, 2003), and PRCC and UP have executed an amendment to the lease (Amendment) that extends the term of the lease through August 31, 2025.¹ PRCC states that it will continue to operate and provide all rail common carrier freight service to shippers on the Line.

¹ Copies of the 2003 lease and the Amendment were submitted under seal. See 49 CFR 1150.43(h)(1).

PRCC certifies that its projected annual revenues from this transaction will not result in its becoming a Class I or Class II rail carrier and will not exceed $5 million. As required under 49 CFR 1150.43(h)(1), PRCC has disclosed in its verified notice that its lease agreement with UP contains an interchange commitment and has provided additional information regarding the interchange commitment as required by 49 CFR 1150.43(h).

The earliest this transaction may be consummated is March 27, 2021, the effective date of the exemption (30 days after the verified notice was filed).

If the notice contains false or misleading information, the exemption is void ab initio. Petitions to revoke the exemption under 49 U.S.C. 10502(d) may be filed at any time. The filing of a petition to revoke will not automatically stay the effectiveness of the exemption. Petitions to stay must be filed no later than March 19, 2021.

All pleadings, referring to Docket No. FD 36479, should be filed with the Surface Transportation Board via e-filing on the Board's website. In addition, a copy of each pleading must be served on PRCC's representative, Bradon J. Smith, Fletcher & Sippel LLC, 29 North Wacker Drive, Suite 800, Chicago, IL 60606.

According to PRCC, this action is categorically excluded from environmental review under 49 CFR 1105.6(c) and from historic reporting under 49 CFR 1105.8(b).

Board decisions and notices are available at www.stb.gov.

Decided: March 9, 2021.
By the Board, Allison C. Davis, Director, Office of Proceedings.
Eden Besera,
Clearance Clerk.

[FR Doc. 2021-05198 Filed 3-11-21; 8:45 am]

BILLING CODE 4915-01-P